DEPARTMENT OF ENERGY

Federal Energy Regulatory Commission

[Docket No. AD13-7-000]

Centralized Capacity Markets in Regional Transmission Organizations and Independent System Operators:Supplemental Notice of Technical Conference

As announced in the Notice issued on June 17, 2013,¹ the Federal Energy Regulatory Commission (Commission) staff will hold a technical conference on September 25, 2013 from 9:00 a.m. to approximately 5:00 p.m., to consider how current centralized capacity market rules and structures are supporting the procurement and retention of resources necessary to meet future reliability and operational needs. The conference will be held at the Federal Energy Regulatory Commission, 888 First Street, NE., Washington, DC 20426. A preliminary agenda for this conference is attached. This conference is free of charge and open to the public. Commission members may participate in the conference.

¹ Centralized Capacity Markets in Regional Transmission Organizations and Independent System Operators, Docket No. AD13-7-000 (June 17, 2013).

Those interested in speaking at the technical conference should notify the Commission by August 9, 2013 by completing the online form at the following Web page: https://www.ferc.gov/whats-new/registration/cap-markets-09-25-13-speaker-form.asp. At this Web page, please provide an abstract (700 character limit) of the issue(s) you propose to address. Due to time constraints, we expect to not be able to accommodate all those interested in speaking. If you have not already done so, those who plan to attend the technical conference are strongly encouraged to complete the registration form located at: https://www.ferc.gov/whats-new/registration/cap-markets-09-25-13-form.asp. There is no registration deadline to attend the conference.

Selected speakers will be notified as soon as possible and will be required to provide written comments by Friday, September 6, 2013. These comments should serve as the selected speakers' opening remarks. The discussion at the technical conference will focus on the written comments submitted by speakers and on questions from Staff and Commissioners.

The technical conference will not be transcribed. However, there will be a free webcast of the conference. The webcast will allow persons to listen to the technical conference, but not participate. Anyone with Internet access who wants to listen to the conference can do so by navigating to the Calendar of Events at www.ferc.gov and locating the technical conference on the Calendar. The technical conference will contain a link to its webcast. The Capitol Connection provides technical support for the webcast and offers the option of listening to the meeting via phone-bridge for a fee. If you have any questions, visit www.CapitolConnection.org or call 703-993-3100.²

² The webcast will continue to be available on the Calendar of Events on the Commission's Web site www.ferc.gov for three months after the conference.

Information on the technical conference will be posted on the Calendar of Events on the Commission's Web site, http://www.ferc.gov/EventCalendar/EventDetails.aspx?ID=6944&CalType=%20&CalendarID=116&Date=09/25/2013&View=Listview, prior to the conference.

Commission conferences are accessible under section 508 of the Rehabilitation Act of 1973. For accessibility accommodations, please send an email to accessibility@ferc.gov or call toll free 1-866-208-3372 (voice) or 202-502-8659 (TTY), or send a FAX to 202-208-2106 with the required accommodations.

For more information about the technical conference, please contact: Shiv Mani (Technical Information), Office of Energy Policy and Innovation, Federal Energy Regulatory Commission, 888 First Street, NE., Washington, DC 20426, (202) 502-8240, Shiv.Mani@ferc.gov. Eric Eversole (Legal Information), Office of the General Counsel, Federal Energy Regulatory Commission, 888 First Street NE., Washington, DC 20426, (202) 502-8697, Eric.Eversole@ferc.gov.

Sarah McKinley (Logistical Information), Office of External Affairs, Federal Energy Regulatory Commission, 888 First Street, NE., Washington, DC 20426, (202) 502-8004, Sarah.McKinley@ferc.gov.

Dated: July 19, 2013.
Kimberly D. Bose,
Secretary.

Centralized Capacity Markets in Regional Transmission Organizations and Independent System Operators Docket No. AD13-7-000

September 25, 2013

Preliminary Agenda

9:00 am-9:15 am Welcome and opening remarks

9:15 am-10:45 am The role of centralized capacity markets in assuring resource adequacy

In the first morning session, ISO New England, Inc., PJM Interconnection, L.L.C., and New York Independent System Operator will provide a brief overview of the goals and basic structure of their respective centralized capacity markets, including a discussion of why each region chose key market design elements and how each market is achieving its stated goals.

10:45 am-12:15 pm Mechanics of current centralized capacity markets

The second morning session will address basic design elements of centralized capacity markets, such as the forward commitment period, the demand curve and the establishment of locational and regional planning requirements, as well as the interaction among these design elements with energy and ancillary services markets. Panelists will be asked to address these issues in the context of the goals and objectives of the centralized capacity markets.

12:15 pm-1:15 pm Lunch

1:15 pm-2:45 pm Adapting to industry changes

The first afternoon session builds on the previous panel and introduces for discussion the impact of State and Federal policy considerations and emerging technologies on the goals and objectives of centralized capacity markets. Panelists will be asked to identify current and potential policy drivers (e.g., environmental regulations, renewable portfolio standards, state resource planning policies, emerging technologies and fuels such as shale gas, price responsive demand and electric storage) and address their impacts on centralized capacity markets.

2:45 pm-3:00 pm Break

3:00 pm-4:30 pm Considerations for the future

The second afternoon session will address potential future directions for centralized capacity markets as a resource adequacy mechanism. This panel will focus on whether new mechanisms and design tools could prospectively augment, supplement or substitute for typical centralized capacity market design elements in order to meet current and anticipated market challenges, and how capacity markets can accommodate evolving market developments and future risks.

4:30-5:00 pm Wrap up and closing remarks

[FR Doc. 2013-18063 Filed 7-26-13; 8:45 am]

BILLING CODE 6717-01-P